ENVIRONMENTAL PROTECTION AGENCY

[FRL-7006-5]

Program To Build Local Capacity To Conduct Assessments of the Impacts of Climate Change and Variability on Aquatic Ecosystems and Water Quality

AGENCY: Environmental Protection Agency (EPA).

ACTION: Notice of availability of funds and request for applications for cooperative agreements.

SUMMARY: The Environmental Protection Agency (EPA), Office of Research and Development, National Center for Environmental Assessment, Global Change Research Program is issuing a Request for Applications (RFA) for Cooperative Agreements to Provide Assistance to State/Tribal/Other Local Environmental Protection Agencies to Conduct Location-Specific Assessments of the Impacts of Climate Change and Variability on Aquatic Ecosystems and Water Quality. (For the purposes of this solicitation, “local” describes any entity that operates at a smaller spatial scale than the regional or national scale. Examples include states, tribes, U.S. territories, counties, municipalities, and watersheds.) In addition, universities and non-profit organizations may apply for assistance under this program if they will use EPA funds to provide support to state/tribal/other local government environmental protection agencies.

Specifically, funding recipients will assess the potential effects of climate change and variability on water quality (with respect to drinking water, wastewater treatment, surface water, and/or ground water) and/or the effects on aquatic ecosystems (streams, rivers, lakes, wetlands, estuaries, and/or coral reefs). The purpose of these cooperative agreements is to build local capacity by providing physical resources (through cooperative agreement funding) and technical assistance necessary to conduct pilot assessment projects. These pilot projects will help groups that receive funds to develop the capacity to conduct additional assessments on their own, and will generate model methodologies and approaches that can be applied by other local authorities. Applicants are encouraged to develop cooperative relationships with other organizations, educational institutions, citizens groups, water quality authorities (e.g., water suppliers, treatment plants) and/or other non-federal governmental entities to achieve these purposes. Any transactions with such groups involving transfer of EPA funds must comply with applicable regulations. Awards are estimated to range from $25,000 to $100,000 total over a one- to three-year period. Depending on funding availability, up to approximately $300,000 will be available to fund approximately three to six awards.

DATES: Applications must be postmarked, dated by a delivery service, or marked received by NCEA/Global personnel by October 18, 2001.

ADDRESSES: Solicitation packages are available on NCEA's web site (http://www.epa.gov/ncea/) and on the Global Change Research Program's web site (http://www.epa.gov/globalresearch/). A list of resources that may be useful to applicants is also posted on the Global Change Research Program web site. Information about the full application process and application forms are found in the “Application Kit for Assistance.” Paper copies may be requested from the EPA contact person at the address and phone number below.

FOR FURTHER INFORMATION CONTACT: David Kelley, preferably by email: kelley.dave@epa.gov; also by mail: National Center for Environmental Assessment (8623D); Office of Research and Development, U.S. Environmental Protection Agency, 1200 Pennsylvania Avenue, N.W., Washington, DC 20460; physical location and overnight delivery: 808 17th Street, NW., 5th floor, Washington, DC 20006; telephone: 202-564-3263; or facsimile: 202-564-2268.

Dated: June 21, 2001.
Arthur F. Payne,
Acting Director, National Center for Environmental Assessment.

[FR Doc. 01-16686 Filed 7-2-01; 8:45 am]

BILLING CODE 6560-50-P